DEPARTMENT OF TRANSPORTATION

Federal Aviation Administration

14 CFR Part 71

[Docket No. FAA-2013-0622; Airspace Docket No. 13-AWP-10]

Modification of Class D and Class E Airspace; Kailua-Kona, HI

AGENCY: Federal Aviation Administration (FAA), Department of Transportation (DOT).

ACTION: Final rule.

SUMMARY: This action amends Class D and E airspace at Kona International Airport at Keahole, Kailua-Kona, HI, to accommodate the Area Navigation (RNAV) Global Positioning System (GPS) and the Instrument Landing System (ILS) or Localizer (LOC) standard instrument approach procedures at the airport. This action also adjusts the geographic coordinates of the airport in the respective Class D and E airspace areas, and the airport name is corrected to Kona International Airport at Keahole. This action, initiated by the biennial review of the Kona airspace area, improves the safety and management of Instrument Flight Rules (IFR) operations at the airport. In addition, a correction to the south segment extension of Class E airspace is made.

DATES: Effective Date, 0901 UTC, May 29, 2014. The Director of the Federal Register approves this incorporation by reference action under 1 CFR Part 51, subject to the annual revision of FAA Order 7400.9 and publication of conforming amendments.

FOR FURTHER INFORMATION CONTACT: Bill Nugent, Federal Aviation Administration, Operations Support Group, Western Service Center, 1601 Lind Avenue SW., Renton, WA 98057; telephone (425) 203-4518.

SUPPLEMENTARY INFORMATION:

History

On October 31, 2013, the FAA published in the Federal Register a notice of proposed rulemaking (NPRM) to amend controlled airspace at Kailua-Kona, HI (78 FR 65241). Interested parties were invited to participate in this rulemaking effort by submitting written comments on the proposal to the FAA. No comments were received. Subsequent to publication, the FAA found that in the proposal section of the NPRM, the south extension miles were inverted. It should read “. . . is decreased from 14.5 miles to 8.5 miles south of the airport . . .” The Class E regulatory text is correctly entered.

Class D and Class E airspace designations are published in paragraphs 5000, 6004 and 6005, respectively, of FAA Order 7400.9X dated August 7, 2013, and effective September 15, 2013, which is incorporated by reference in 14 CFR 71.1. The Class D and Class E airspace designations listed in this document will be published subsequently in that Order.

The Rule

This action amends Title 14 Code of Federal Regulations (14 CFR) part 71 by amending Class E airspace extending upward from 700 feet above the surface, at Kona International Airport at Keahole, Kailua-Kona, HI, to accommodate the RNAV (GPS) and ILS or LOC standard instrument approach procedures at the airport. The segment of controlled airspace extending from the 7.4-mile radius of the airport is decreased from 14.5 miles to 8.5 miles south of the airport. The geographic coordinates of the airport for the respective Class D and Class E airspace are updated to coincide with the FAA's aeronautical database. The airport formerly called Keahole Airport, Kailua-Kona, HI, is corrected to Kona International Airport at Keahole, Kailua-Kona, HI. This action is necessary for the safety and management of IFR operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Kona International Airport at Keahole, Kailua-Kona, HI.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist, that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013 is amended as follows:

Paragraph 5000 Class D Airspace

* * * * *

AWP HI D Kailua-Kona, HI [Modified]

Kona International Airport at Keahole, HI

(Lat. 19°44′20″ N., long. 156°02′44″ W.)

That airspace extending upward from the surface to and including 2,500 feet MSL within a 4.3-mile radius of Kona International Airport at Keahole. This Class D airspace area is effective during the specific dates and times established in advance by a Notice to Airmen. The effective date and time will thereafter be continuously published in the Airport/Facility Directory, Pacific Chart Supplement.

Paragraph 6004 Class E Airspace Designated as an Extension to Class D Surface Area

* * * * *

AWP HI E4 Kailua-Kona, HI [Modified]

Kona International Airport at Keahole, HI

(Lat. 19°44′20″ N., long. 156°02′44″ W.)

That airspace extending upward from the surface within 2.8 miles either side of the 186° bearing of Kona International Airport at Keahole extending from the 4.3-mile radius of the airport to 5.7 miles south of the airport, and within 4.3 miles either side of the 006° bearing of the airport extending from the 4.3-mile radius to 11.5 miles north of the airport. This Class E airspace area is effective during the specific dates and times established in advance by a Notice to Airmen. The effective date and time will thereafter be continuously published in the Airport/Facility Directory, Pacific Chart Supplement.

Paragraph 6005 Class E Airspace Areas Extending Upward From 700 Feet or More Above the Surface of the Earth

* * * * *

AWP HI E5 Kailua-Kona, HI [Modified]

Kona International Airport at Keahole, HI

(Lat. 19°44′20″ N., long. 156°02′44″ W.)

That airspace extending upward from 700 feet above the surface within a 7.4-mile radius of Kona International Airport at Keahole, and within 4.3 miles each side of the 006° bearing of the airport extending from the 7.4-mile radius to 11.5 miles north of the airport, and within 4 miles each side of the 186° bearing of the airport extending from the 7.4-mile radius to 8.5 miles south of the airport.

Issued in Seattle, Washington, on January 30, 2014.
Clark Desing,
Manager, Operations Support Group, Western Service Center.

[FR Doc. 2014-02951 Filed 2-12-14; 8:45 am]

BILLING CODE 4910-13-P